DEPARTMENT OF HEALTH AND HUMAN SERVICES

Health Resources and Services Administration

HRSA-03-101 Fiscal Year 2003 Competitive Application Cycle for the Comprehensive Geriatrics Education Program (CGEP)

AGENCY: Health Resources and Services Administration, HHS.

ACTION: Correction of deadline date.

SUMMARY: In notice document FR Doc. 03-13225, in the issue of Wednesday, May 28, 2003, make the following correction:

On page 31722, under the section “Application Requests, Availability, Dates and Addresses:”, in the third column, lines 23 and 24, the language “applications must be postmarked by the due date of July 7, 2003. Applicants” is corrected to read “applications must be postmarked by the due date of June 30, 2003. Applicants”.

Dated: May 28, 2003.
Jane M. Harrison,
Director, Division of Policy Review and Coordination.

[FR Doc. 03-13831 Filed 6-2-03; 8:45 am]

BILLING CODE 4165-15-P